SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and an extension of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than May 24, 2011. Individuals can obtain copies of the collection instruments by calling the SSA Reports Clearance Officer at 410-965-8783 or by writing to the above e-mail address.

1. Questionnaire about Employment or Self-Employment outside the United States—20 CFR 404.401(b)(1), 404.415 & 404.417—0960-0050. SSA collects information on the SSA-7163 to determine: (1) Whether work beneficiaries performed outside the United States is cause for deductions from their monthly benefits; (2) which of two work tests (foreign or regular test) is applicable; and (3) the number of months, if any, SSA should impose deductions. Respondents are beneficiaries living and working outside the United States.

Type of Request: Revision of an OMB-approved information collection.

Number of Respondents: 20,000.

Frequency of Response: 1.

Average Burden per Response: 12 minutes.

Estimated Annual Burden: 4,000 hours.

2. Statement of Income and Resources—20 CFR 416.207, 146.301-416.310, 416.704, and 416.708-0960-0124. SSA collects information about income and resources on the SSA-8010-BK for Supplemental Security Income (SSI) claims and redeterminations. SSA uses the information to make initial or continuing eligibility determinations for SSI claimants or recipients who are subject to deeming. The respondents are persons whose income and resources SSA may deem (consider to be available) to SSI applicants or recipients.

Type of Request: Revision of an OMB-approved information collection.

Number of Respondents: 341,000.

Frequency of Response: 1.

Average Burden per Response: 26 minutes.

Estimated Annual Burden: 147,767 hours.

3. Review of the Disability Hearing Officer's Reconsidered Determinations before It Is Issued—20 CFR 404.913-404.918, 404.1512-404.1515, 404.1589, 416.912-416.915, 416.989, 416.1413-416.1418, 404.918(d) and 416.1418(d)—0960-0709. After SSA approves claimants for Social Security disability benefits or SSI payments, SSA periodically conducts a continuing disability review (CDR). During a CDR, the agency reviews claimants' status to see if their condition improved to the point they are capable of working, and if so, to reduce or stop their benefits or payments. If SSA notifies a claimant the agency will stop benefits or payments, the claimant may appeal the determination. The first appeal gives the claimant the opportunity for a full evidentiary hearing before a disability hearing officer (DHO).

For quality review purposes, a Federal component reviews a small sample of the DHO's determinations. It is rare for the reviewing component to reverse a DHO determination favorable to the claimant. Before SSA can issue an unfavorable determination, we give the claimant 10 days to provide a written statement explaining why SSA should not stop payments. The written statement is the information SSA collects in this process. Respondents are CDR claimants whose payments may cease.

Type of Request: Extension of an OMB-approved information collection.

Number of Respondents: 8.

Frequency of Response: 1.

Average Burden per Response: 60 minutes.

Estimated Annual Burden: 8 hours.

II. SSA submitted the information collections listed below to OMB for clearance. Your comments on the information collections would be most useful if OMB and SSA receive them within 30 days from the date of this publication. To be sure we consider your comments, we must receive them no later than April 25, 2011. You can obtain a copy of the OMB clearance package by calling the SSA Reports Clearance Officer at 410-965-8783 or by writing to the above e-mail address.

1. Application for Survivors Benefits—20 CFR 404.611(a) and (c)—0960-0062. Surviving family members of armed services personnel can file for Social Security and veterans' benefits at SSA or the Veterans Administration (VA). Applicants file for title II survivor benefits at the VA by completing the SSA-24. The VA forwards the form to SSA for processing. SSA uses the information to determine eligibility for benefits. The respondents are survivors of deceased armed services personnel who are applying for benefits at the VA.

Type of Request: Revision of an OMB-approved information collection.

Number of Respondents: 3,200.

Frequency of Response: 1.

Average Burden per Response: 15 minutes.

Estimated Annual Burden: 800 hours.

2. Employee Work Activity Questionnaire—20 CFR 404.1574, 404.1592—0960-0483. Social Security disability beneficiaries and SSI recipients qualify for payments when a verified physical or mental impairment prevents them from working. If disability claimants attempt to return to work after receiving payments, but are unable to continue working, they submit the SSA-3033, Employee Work Activity Questionnaire, so SSA can evaluate their work attempt. SSA also uses this form to evaluate unsuccessful subsidy work and determine applicants' continuing eligibility for disability payments. The respondents are employers of Social Security disability beneficiaries and SSI recipients who unsuccessfully attempted to return to work.

Type of Request: Revision of an OMB-approved information collection.

Number of Respondents: 15,000.

Frequency of Response: 1.

Average Burden per Response: 15 minutes.

Estimated Annual Burden: 3,750 hours.

Dated: March 22, 2011.
Faye Lipsky,
Reports Clearance Officer, Center for Reports Clearance, Social Security Administration.

[FR Doc. 2011-7124 Filed 3-24-11; 8:45 am]

BILLING CODE 4191-02-P